DEPARTMENT OF TRANSPORTATION

Federal Transit Administration

Major Capital Investment Projects; Guidance on News Starts/Small Starts Policies and Procedures

AGENCY: Federal Transit Administration (FTA), DOT.

ACTION: Notice.

SUMMARY: This notice is intended to inform the public that no significant changes are proposed to the existing guidance on the New Starts and Small Starts programs. FTA is required by statute to publish policy guidance every two years on the New Starts and Small Starts programs. This notice serves to notify the public that FTA intends to continue use of existing guidance at this time.

DATES: Effective Date: This notification is effective August 16, 2011.

FOR FURTHER INFORMATION CONTACT: For questions on the New or Small Starts program, contact Elizabeth Day, Office of Planning and Environment, telephone (202) 366-5159; for questions of a legal nature, contact Christopher Van Wyk, Office of Chief Counsel, (202) 366-1733. Office hours are from 8:30 a.m. to 5 p.m., EST, Monday through Friday, except Federal holidays.

SUPPLEMENTARY INFORMATION: On August 10, 2005, President Bush signed the Safe, Accountable, Flexible, Efficient Transportation Equity Act: A Legacy for Users (SAFETEA-LU) (Pub. L. 110-244), which amends 49 U.S.C. 5309. Section 5309(d)(6) of Title 49, U.S. Code, requires the Federal Transit Administration (FTA) to publish policy guidance on the New and Small Starts capital project review and evaluation process and criteria each time significant changes are made, but not less frequently than once every two years.

FTA last published Guidance on New and Small Starts Policies and Procedures in September 2009. Thus, FTA is publishing today a notice that no significant changes are proposed to the New Starts and Small Starts review and evaluation process at this time. Information describing the current New and Small Starts review process can be found on FTA's Web site at http://www.fta.dot.gov/planning/planning_environment_5221.html.

This notification should not be confused with the Advanced Notice of Proposed Rulemaking (ANPRM) published by FTA in June 2010, which sought public comment on the New Starts and Small Starts project justification criteria. Information gathered from that ANPRM is being used to inform FTA's broader effort to amend the regulations that govern the New Starts and Small Starts programs.

Issued on: August 10, 2011.
Peter Rogoff,
Administrator, Federal Transit Administration.

[FR Doc. 2011-20851 Filed 8-15-11; 8:45 am]

BILLING CODE 4910-57-P